DEPARTMENT OF HOMELAND SECURITY

Federal Emergency Management Agency

[Docket ID FEMA-2022-0002; Internal Agency Docket No. FEMA-B-2293]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before March 13, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2293, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

Community | Community map repository address
Columbia County, Pennsylvania (All Jurisdictions)
Project: 15-03-0227S Preliminary Date: June 17, 2022
Borough of Berwick | City Hall, 1800 North Market Street, Berwick, PA 18603.
Borough of Briar Creek | Briar Creek Borough Hall, 6029 Park Road, Berwick, PA 18603.
Town of Bloomsburg | Town Hall, 301 East 2nd Street, Bloomsburg, PA 17815.
Township of Benton | Township Building, 236 Shickshinny Road, Benton, PA 17814.
Township of Briar Creek | Briar Creek Township Municipal Building, 150 Municipal Road, Berwick, PA 18603.
Township of Catawissa | Township Building, 153 Old Reading Road, Catawissa, PA 17820.
Township of Cleveland | Cleveland Township Building, 46 Jefferson Road, Elysburg, PA 17824.
Township of Greenwood | Greenwood Township Building, 90 Shed Road, Millville, PA 17846.
Township of Hemlock | Hemlock Township Building, 26 Firehall Road, Bloomsburg, PA 17815.
Township of Locust | Locust Municipal Building, 1223A Numidia Drive, Catawissa, PA 17820.
Township of Mifflin | Mifflin Township Building, 201 East 1st Street, Mifflinville, PA 18631.
Township of Montour | Montour Township Office, 195 Rupert Drive, Bloomsburg, PA 17815.
Township of Pine | Pine Township Building, 309 Wintersteen School Road, Millville, PA 17846.
Township of Roaring Creek | Roaring Creek Township Secretary Building, 28 Brass School Road, Catawissa, PA 17820.
Township of Scott | Scott Municipal Building, 350 Tenny Street, Bloomsburg, PA 17815.
Township of Sugarloaf | Sugarloaf Municipal Building, 90 Schoolhouse Road, Benton, PA 17814.
Hardy County, West Virginia and Incorporated Areas
Project: 21-03-0002S Preliminary Date: April 14, 2022
Town of Wardensville | Town Hall, 25 Warrior Way, Wardensville, WV 26851.
Unincorporated Areas of Hardy County | Hardy County Courthouse, 204 Washington Street, Moorefield, WV 26836.
Fond du Lac, Wisconsin and Incorporated Areas
Project: 13-05-3721S Preliminary Date: April 18, 2022
Unincorporated Areas of Fond du Lac County | Code Enforcement Office, 160 South Macy Street, Fond du Lac, WI 54935.
Village of Kewaskum | Village Hall, 204 First Street, Kewaskum, WI 53040.

[FR Doc. 2022-26879 Filed 12-9-22; 8:45 am]

BILLING CODE 9110-12-P